DEPARTMENT OF COMMERCE

National Technical Information Service

Proposed Information Collection; Comment Request; Limited Access Death Master File, Derived From the Social Security Administration's Death Master File, Subscriber Certification Form (Subscriber Certification Form)

AGENCY: National Technical Information Service, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 21, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to John Hounsell, National Technical Information Service, 5301 Shawnee Rd., Alexandria, VA 22312, jhounsell@ntis.gov, 703-605-6184.

SUPPLEMENTARY INFORMATION:

I. Abstract

The National Technical Information Service (NTIS) Limited Access Death Master File, derived from the Social Security Administration's Death Master File, Subscriber Certification Form (Certification Form) will be used by NTIS to collect information related to the implementation of Section 203 of the Bipartisan Budget Act of 2013 (Pub. L. 113-67)(Act). On March 26, 2014, NTIS issued an interim final rule establishing a temporary certification program for persons who seek access to the Social Security Administration's Public Death Master File (DMF) (http://www.gpo.gov/fdsys/pkg/FR-2014-03-26/pdf/2014-06701.pdf). The interim final rule is codified at 15 CFR part 1110. Section 203 of the Act prohibits disclosure of DMF information during the three-calendar-year period following death unless the person requesting the information has been certified under a program established by the Secretary of Commerce.

The Act directs the Secretary of Commerce to establish a fee-based certification program for such access to the DMF. The Secretary of Commerce has delegated the authority to carry out the DMF certification program to the Director, NTIS. The DMF Certification Form collects only information necessary for NTIS to conduct the program. This collection of information is for information necessary to support the certification process required by the Act for members of the public to be given access to the Death Master File containing information about deceased persons during the three-calendar-year period after that person's death.

II. Method of Collection

The Subscriber Certification Form may be submitted via mail, email, or fax.

III. Data

OMB Control Number: 0692-0013.

Form Number(s): NTIS FM161.

Type of Review: Regular submission, extension of a current information collection.

Affected Public: Individuals or households; businesses or other for-profit organizations; not-for-profit institutions (Users who wish to obtain access to the Death Master File from NTIS).

Estimated Number of Respondents: 700.

Estimated Time per Response: 2 hours.

Estimated Total Annual Burden Hours: 1,400.

Estimated Total Annual Cost to Public: $140,000 (fees).

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 18, 2014.
Gwellnar Banks,
Management Analyst, Office of the Chief Information Officer.

[FR Doc. 2014-19901 Filed 8-21-14; 8:45 am]

BILLING CODE 3510-04-P